DEPARTMENT OF THE INTERIOR

National Park Service

Notice of Availability of a Record of Decision on the Final Environmental Impact Statement for the Dayton Aviation Heritage National Historical Park General Management Plan Amendment

AGENCY: National Park Service, Department of the Interior.

SUMMARY: Pursuant to section 102(2)(C) of the National Environmental Policy Act of 1969, 83 Stat. 852, 853, the National Park Service (NPS) announces the availability of the Record of Decision (ROD) on the Final Environmental Impact Statement (EIS) for the Dayton Aviation Heritage National Historical Park General Management Plan Amendment, Dayton Aviation Heritage National Historical Park, Ohio. On May 16, the Regional Director, Midwest Region, approved the ROD for the project. As soon as practicable, the NPS will begin to implement the Preferred Alternative contained in the Final EIS issued on April 13.

The following course of action will occur under the Preferred Alternative. The park will continue to serve traditional visitors to national parks; however, the primary goal will be to increase regional involvement, particularly in interpretation, education, and outreach. Visitors can expect an active participatory experience that will broaden and expand the park's literary and aviation significance. There will be a new at-grade entrance to the Huffman Prairie Flying Field and a maintenance facility shared by the park and partners.

This course of action and two other alternatives were analyzed in the Draft and Final EIS. The full range of foreseeable environmental consequences was assessed and appropriate mitigating measures were identified.

The ROD includes a statement of the decision made, synopses of other alternatives considered, the basis for the decision, a description of the environmentally preferable alternative, a finding on impairment of park resources and values, a listing of measures to minimize environmental harm, an overview of public involvement in the decisionmaking process, and a conclusion.

FOR FURTHER INFORMATION CONTACT: Superintendent Lawrence Blake, Dayton Aviation Heritage National Historical Park, 16 South Williams Street, Dayton, Ohio 45402, telephone 937-225-7705.

SUPPLEMENTARY INFORMATION: Copies of the ROD may be obtained from the contact listed above or may be viewed online at http://parkplanning.nps.gov/.

Dated: May 16, 2007.
Ernest Quintana,
Regional Director, Midwest Region.

[FR Doc. E7-12715 Filed 6-29-07; 8:45 am]

BILLING CODE 9312-88-P